DEPARTMENT OF DEFENSE

Office of the Secretary

Meeting of the Department of Defense Military Family Readiness Council (MFRC)

AGENCY: Office of the Under Secretary of Defense for Personnel and Readiness, DoD.

ACTION: Notice.

SUMMARY: Pursuant to Section 10 (a), Public Law 92-463, as amended, notice is hereby given of a forthcoming meeting of the Department of Defense Military Family Readiness Council (MFRC). The purpose of the Council meeting is to review the Council's Charter, review the status of warrior care, and address selected concerns of military family organizations.

DATES: December 19, 2008, from 2 p.m. until 4 p.m.

ADDRESSES: Pentagon (escorts will be provided from Pentagon Conference Center entrance).

FOR FURTHER INFORMATION CONTACT: CDR Quinn Skinner, USN, Office of the Deputy Under Secretary (Military Community & Family Policy), 4000 Defense Pentagon, Room 5A734, Washington, DC 20301-4000. Telephone (703) 697-7191. Fax (703) 695-1977.

SUPPLEMENTARY INFORMATION:

Meeting Agenda

Friday, December 19, 2008 2 p.m.-4 p.m.

Welcome & Administrative Remarks.

Review of the Council's Charter.

Review of issues raised during the 20 October 2008 Family Summit hosted by the Secretary of Defense.

Discussion of Topics for Summer 2009 meeting, to include concerns from organizations representing military families.

Note: Exact order may vary.

The meeting is open to the public, subject to the availability of space. Persons desiring to attend may contact CDR Skinner at 703-697-7191 no later than 5 p.m. on Friday, December 11, 2008, to arrange for parking and escort into the conference room inside the Pentagon.

Interested persons may submit a written statement for consideration by the Council. Persons desiring to submit a written statement to the Council must notify the point of contact listed above no later than 5 p.m., Friday, December 11, 2008.

Dated: November 25, 2008.
Patricia L. Toppings,
OSD Federal Register Liaison Officer, Department of Defense.

[FR Doc. E8-28599 Filed 12-1-08; 8:45 am]

BILLING CODE 5001-06-P